DEPARTMENT OF HOMELAND SECURITY

Federal Emergency Management Agency

[Docket ID FEMA-2019-0002; Internal Agency Docket No. FEMA-B-1924]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Tuscaloosa | City of Northport (18-04-7201P). | The Honorable Donna Aaron, Mayor, City of Northport, 3500 McFarland Boulevard, Northport, AL 35476. | Planning and Inspections Department, 3500 McFarland Boulevard, Northport, AL 35476. | https://msc.fema.gov/portal/advanceSearch. | Jul. 9, 2019 | 010202
Tuscaloosa | Unincorporated areas of Tuscaloosa County (18-04-7201P). | The Honorable Ward D. Robertson, III, Probate Judge, Tuscaloosa County, 714 Greensboro Avenue, Tuscaloosa, AL 35401. | Tuscaloosa County Public Works Department, 2810 35th Street, Tuscaloosa, AL 35401. | https://msc.fema.gov/portal/advanceSearch. | Jul. 9, 2019 | 010201
California: Orange | City of Irvine (18-09-2376P). | Mr. John Russo, City of Irvine Manager, 1 Civic Center Plaza, Irvine, CA 92606. | Department of Public Works, 1 Civic Center Plaza, Irvine, CA 92606. | https://msc.fema.gov/portal/advanceSearch. | Jul. 12, 2019 | 060222
Colorado:
Arapahoe | City of Centennial (18-08-1262P). | The Honorable Stephanie Piko, Mayor, City of Centennial, 13133 East Arapahoe Road, Centennial, CO 80112. | Southeast Metro Stormwater Authority, 7437 South Fairplay Street, Centennial, CO 80112. | https://msc.fema.gov/portal/advanceSearch. | Jul. 5, 2019 | 080315
Douglas | Town of Castle Rock (18-08-0968P). | The Honorable Jason Gray, Mayor, Town of Castle Rock, 100 North Wilcox Street, Castle Rock, CO 80104. | Water Department, 175 Kellogg Court, Castle Rock, CO 80109. | https://msc.fema.gov/portal/advanceSearch. | Jul. 26, 2019 | 080050
Garfield | Town of Parachute (18-08-1058P). | The Honorable Roy McClung, Mayor, Town of Parachute, 222 Grand Valley Way, Parachute, CO 81635. | Town Hall, 222 Grand Valley Way, Parachute, CO 81635. | https://msc.fema.gov/portal/advanceSearch. | Jun. 20, 2019 | 080215
Garfield | Unincorporated areas of Garfield County (18-08-1058P). | The Honorable John Martin, Chairman, Garfield County Board of Commissioners, 108 8th Street, Suite 101, Glenwood Springs, CO 81601. | Garfield County Administration Building, 108 8th Street, Glenwood Springs, CO 81601. | https://msc.fema.gov/portal/advanceSearch. | Jun. 20, 2019 | 080205
Jefferson | Unincorporated areas of Jefferson County (18-08-0795P). | The Honorable Libby Szabo, Chair, Jefferson County Board of Commissioners, 100 Jefferson County Parkway, Golden, CO 80419. | Jefferson County Planning and Zoning Division, 100 Jefferson County Parkway, Golden, CO 80419. | https://msc.fema.gov/portal/advanceSearch. | Jul. 12, 2019 | 080087
Delaware: Sussex | Unincorporated areas of Sussex County (18-03-1948P). | The Honorable Michael H. Vincent, President, Sussex County Council, P.O. Box 589, Georgetown, DE 19947. | Sussex County Planning and Zoning Department, #2 The Circle, Georgetown, DE 19947. | https://msc.fema.gov/portal/advanceSearch. | Jul. 19, 2019 | 100029
Florida:
Charlotte | Unincorporated areas of Charlotte County (18-04-6799P). | The Honorable Ken Doherty, Chairman, Charlotte County Board of Commissioners, 18500 Murdock Circle, Suite 536, Port Charlotte, FL 33948. | Charlotte County Community Development Department, 18400 Murdock Circle, Port Charlotte, FL 33948. | https://msc.fema.gov/portal/advanceSearch. | Jul. 5, 2019 | 120061
Clay | Unincorporated areas of Clay County (18-04-6869P). | The Honorable Mike Cella, Chairman, Clay County Board of Commissioners, P.O. Box 1366, Green Cove Springs, FL 32043. | Clay County Zoning Department, 477 Houston Street, Green Cove Springs, FL 32043. | https://msc.fema.gov/portal/advanceSearch. | Jul. 9, 2019 | 120064
Lee | Town of Fort Myers Beach (19-04-1243P). | The Honorable Tracey Gore, Mayor, Town of Fort Myers Beach, 2525 Estero Boulevard, Fort Myers Beach, FL 33931. | Community Development Department, 2525 Estero Boulevard, Fort Myers Beach, FL 33931. | https://msc.fema.gov/portal/advanceSearch. | Jul. 18, 2019 | 120673
Lee | Unincorporated areas of Lee County (19-04-0850P). | The Honorable Larry Kiker, Chairman, Lee County Board of Commissioners, P.O. Box 398, Fort Myers, FL 33902. | Lee County Building Department, 1500 Monroe Street, Fort Myers, FL 33902. | https://msc.fema.gov/portal/advanceSearch. | Jun. 25, 2019 | 125124
Marion | Unincorporated areas of Marion County (18-04-6729P). | The Honorable Michelle Stone, Chair, Marion County Board of Commissioners, 601 Southeast 25th Avenue, Ocala, FL 34471. | Marion County Public Works Department, 601 Southeast 25th Avenue, Ocala, FL 34471. | https://msc.fema.gov/portal/advanceSearch. | Jul. 9, 2019 | 120160
Miami-Dade | City of Miami (19-04-1242P). | The Honorable Francis X. Suarez, Mayor, City of Miami, 3500 Pan American Drive, Miami, FL 33133. | Building Department, 444 Southwest 2nd Avenue, 4th Floor, Miami, FL 33130. | https://msc.fema.gov/portal/advanceSearch. | Jul. 18, 2019 | 120650
Sarasota | City of Sarasota (19-04-2012P). | The Honorable Liz Alpert, Mayor, City of Sarasota, 1565 1st Street, Room 101, Sarasota, FL 34236. | Development Services Department, 1565 1st Street, Sarasota, FL 34236. | https://msc.fema.gov/portal/advanceSearch. | Jul. 25, 2019 | 125150
Sarasota | Unincorporated areas of Sarasota County (19-04-1456P). | The Honorable Charles D. Hines, Chairman, Sarasota County Board of Commissioners, 1660 Ringling Boulevard, Sarasota, FL 34236. | Sarasota County Planning and Development Services Department, 1001 Sarasota Center Boulevard, Sarasota, FL 34240. | https://msc.fema.gov/portal/advanceSearch. | Jul. 26, 2019 | 125144
Volusia | City of Deltona (18-04-7217P). | Ms. Jane K. Shang, Manager, City of Deltona, 2345 Providence Boulevard, Deltona, FL 32725. | City Hall, 2345 Providence Boulevard, Deltona, FL 32725. | https://msc.fema.gov/portal/advanceSearch. | Jul. 16, 2019 | 120677
Maryland:
Prince George's | Unincorporated areas of Prince George's County (18-03-1633P). | The Honorable Angela D. Alsobrooks, Prince George's County Executive, 1301 McCormick Drive, Suite 4000, Largo, MD 20774. | Prince George's County Inglewood Center II, 1801 McCormick Drive, Suite 500, Largo, MD 20774. | https://msc.fema.gov/portal/advanceSearch. | Jul. 19, 2019 | 245208
Mississippi: Lafayette | City of Oxford (18-04-7495P). | The Honorable Robyn Tannehill, Mayor, City of Oxford, 107 Courthouse Square, Oxford, MS 38655. | City Hall, 107 Courthouse Square, Oxford, MS 38655. | https://msc.fema.gov/portal/advanceSearch. | Jun. 19, 2019 | 280094
New Hampshire: Grafton | Town of Hebron (18-01-1456P). | Mr. Patrick Moriarty, Chairman, Town of Hebron Select Board, P.O. Box 188, Hebron, NH 03241. | Public Safety Department, 37 Groton Road, Hebron, NH 03241. | https://msc.fema.gov/portal/advanceSearch. | Jul. 24, 2019 | 330058
North Carolina: Wake | Town of Apex (18-04-6277P). | The Honorable Lance Olive, Mayor, Town of Apex, P.O. Box 250, Apex, NC 27502. | Engineering Department, 73 Hunter Street, Apex, NC 27502. | https://msc.fema.gov/portal/advanceSearch. | Jul. 16, 2019 | 370467
Oklahoma: Payne | City of Stillwater (18-06-1552P). | The Honorable William Joyce, Mayor, City of Stillwater, 723 South Lewis Street, Stillwater, OK 74074. | Development Services Department, 723 South Lewis Street, Stillwater, OK 74074. | https://msc.fema.gov/portal/advanceSearch. | Jun. 10, 2019 | 405380
Pennsylvania:
Bedford | Borough of Hyndman (18-03-1776P). | The Honorable Newton Huffman, Mayor, Borough of Hyndman, P.O. Box 74, Hyndman, PA 15545. | Borough Hall, 3945 Center Street, Suite 2, Hyndman, PA 15545. | https://msc.fema.gov/portal/advanceSearch. | Jul. 1, 2019 | 420021
Bedford | Township of Londonderry (18-03-1776P). | The Honorable Stephen Stouffer, Chairman, Township of Londonderry Board of Supervisors, P.O. Box 215, Hyndman, PA 15545. | Township Hall, 4303 Hyndman Road, Hyndman, PA 15545. | https://msc.fema.gov/portal/advanceSearch. | Jul. 1, 2019 | 421345
Indiana | Township of White (18-03-1378P). | Mr. Milton Lady, Manager, Township of White, 950 Indian Springs Road, Indiana, PA 15701. | Township Hall, 950 Indian Springs Road, Indiana, PA 15701. | https://msc.fema.gov/portal/advanceSearch. | Jul. 24, 2019 | 421725
South Carolina:
Berkeley | Unincorporated areas of Berkeley County (18-04-3968P). | The Honorable Johnny Cribb, Supervisor, Berkeley County Council, P.O. Box 6122, Moncks Corner, SC 29461. | Berkeley County Planning and Zoning Department, 1003 Highway 52, Moncks Corner, SC 29461. | https://msc.fema.gov/portal/advanceSearch. | Jul. 25, 2019 | 450029
Dorchester | Town of Summerville (18-04-3968P). | The Honorable Wiley Johnson, Mayor, Town of Summerville, 200 South Main Street, Summerville, SC 29483. | Public Works, Engineering Department, 200 South Main Street, Summerville, SC 29483. | https://msc.fema.gov/portal/advanceSearch. | Jul. 25, 2019 | 450073
South Dakota: Lincoln | Unincorporated areas of Lincoln County (18-08-0685P). | The Honorable David Gillespie, Chairman, Lincoln County Board of Commissioners, 104 North Main Street, Suite 120, Canton, SD 57013. | Lincoln County GIS Department, 104 North Main Street, Canton, SD 57013. | https://msc.fema.gov/portal/advanceSearch. | Jun. 21, 2019 | 460277
Tennessee: Hamilton | Unincorporated areas of Hamilton County (18-04-2279P). | The Honorable Jim Coppinger, Mayor, Hamilton County, 208 Courthouse, 625 Georgia Avenue, Chattanooga, TN 37402. | Hamilton County Engineering Department, 1250 Market Street, Suite 3046, Chattanooga, TN 37402. | https://msc.fema.gov/portal/advanceSearch. | Jun. 17, 2019 | 470071
Texas:
Collin | City of Allen (19-06-0043P). | Mr. Peter H. Vargas, Manager, City of Allen, 305 Century Parkway, Allen, TX 75013. | Engineering and Traffic Department, 305 Century Parkway, Allen, TX 75013. | https://msc.fema.gov/portal/advanceSearch. | Jul. 19, 2019 | 480131
Collin | City of Lucas (18-06-3533P). | The Honorable Jim Olk, Mayor, City of Lucas, 665 Country Club Road, Lucas, TX 75002. | City Hall, 665 Country Club Road, Lucas, TX 75002. | https://msc.fema.gov/portal/advanceSearch. | Jun. 24, 2019 | 481545
Collin | City of Parker (18-06-2161P). | The Honorable Lee Pettle, Mayor, City of Parker, 5700 East Parker Road, Parker, TX 75002. | City Hall, 5700 East Parker Road, Parker, TX 75002. | https://msc.fema.gov/portal/advanceSearch. | Jul. 1, 2019 | 480139
Collin | City of Parker (18-06-3533P). | The Honorable Lee Pettle, Mayor, City of Parker, 5700 East Parker Road, Parker, TX 75002. | City Hall, 5700 East Parker Road, Parker, TX 75002. | https://msc.fema.gov/portal/advanceSearch. | Jun. 24, 2019 | 480139
Collin | Unincorporated areas of Collin County (18-06-2161P). | The Honorable Chris Hill, Collin County Judge, 2300 Bloomdale Road, Suite 4192, McKinney, TX 75071. | Collin County Emergency Management Department, 4690 Community Avenue, Suite 200, McKinney, TX 75071. | https://msc.fema.gov/portal/advanceSearch. | Jul. 1, 2019 | 480130
Collin and Denton | City of Frisco (19-06-0831P). | The Honorable Jeff Cheney, Mayor, City of Frisco, 6101 Frisco Square Boulevard, Frisco, TX 75034. | Engineering Services Department, 6101 Frisco Square Boulevard, Frisco, TX 75034. | https://msc.fema.gov/portal/advanceSearch. | Jul. 22, 2019 | 480134
Denton | Unincorporated areas of Denton County (18-06-3265P). | The Honorable Andy Eads, Denton County Judge, 110 West Hickory Street, 2nd Floor, Denton, TX 76201. | Denton County Public Works, Engineering Department, 1505 East McKinney Street, Suite 175, Denton, TX 76209. | https://msc.fema.gov/portal/advanceSearch. | Jul. 29, 2019 | 480774
Kaufman | City of Forney (18-06-2436P). | The Honorable Rick Wilson, Mayor, City of Forney, 101 East Main Street, Forney, TX 75126. | City Hall, 101 East Main Street, Forney, TX 75126. | https://msc.fema.gov/portal/advanceSearch. | Jul. 19, 2019 | 480410
Kendall | Unincorporated areas of Kendall County (18-06-1938P). | The Honorable Darrel L. Lux, Kendall County Judge, 201 East San Antonio Avenue, Suite 122, Boerne, TX 78006. | Kendall County Engineering Department, 201 East San Antonio Avenue, Suite 101, Boerne, TX 78006. | https://msc.fema.gov/portal/advanceSearch. | Jun. 17, 2019 | 480417
Montgomery | City of Conroe (18-06-0092P). | The Honorable Toby Powell, Mayor, City of Conroe, 300 West Davis Street, Conroe, TX 77301. | Engineering Department, 300 West Davis Street, Conroe, TX 77301. | https://msc.fema.gov/portal/advanceSearch. | Jun. 25, 2019 | 480484
Parker | Unincorporated areas of Parker County (18-06-3601P). | The Honorable Pat Deen, Parker County Judge, 1 Courthouse Square, Weatherford, TX 76086. | Parker County Emergency Management Department, 1114 Santa Fe Drive, Weatherford, TX 76086. | https://msc.fema.gov/portal/advanceSearch. | Jul. 22, 2019 | 480520
Smith | Unincorporated areas of Smith County (18-06-2029P). | The Honorable Nathaniel Moran, Smith County Judge, 200 East Ferguson Street, Suite 100, Tyler, TX 75702. | Smith County Road and Bridge Department, 1700 West Claude Street, Tyler, TX 75702. | https://msc.fema.gov/portal/advanceSearch. | Jul. 15, 2019 | 481185
Tarrant | City of Fort Worth (18-06-3021P). | The Honorable Betsy Price, Mayor, City of Fort Worth, 200 Texas Street, Fort Worth, TX 76102. | City Hall, 200 Texas Street, Fort Worth, TX 76102. | https://msc.fema.gov/portal/advanceSearch. | Jul. 15, 2019 | 480596
Tarrant | City of Haslet (18-06-2131P). | The Honorable Bob Golden, Mayor, City of Haslet, 101 Main Street, Haslet, TX 76052. | Planning and Development Department, 101 Main Street, Haslet, TX 76052. | https://msc.fema.gov/portal/advanceSearch. | Jul. 11, 2019 | 480600
Virginia: Stafford | Unincorporated areas of Stafford County (18-03-1812P). | Mr. Thomas C. Foley, Stafford County Administrator, P.O. Box 339, Stafford, VA 22555. | Stafford County Department of Code Administration, 1300 Courthouse Road, Stafford, VA 22554. | https://msc.fema.gov/portal/advanceSearch. | Jun. 20, 2019 | 510154
Wyoming: Laramie | Unincorporated areas of Laramie County (18-08-1199P). | The Honorable Linda Heath, Chair, Laramie County Board of Commissioners, 310 West 19th Street, Suite 300, Cheyenne, WY 82001. | Laramie County Planning and Development Department, 3966 Archer Parkway, Cheyenne, WY 82009. | https://msc.fema.gov/portal/advanceSearch. | Jul. 29, 2019 | 560029

[FR Doc. 2019-08783 Filed 4-30-19; 8:45 am]

BILLING CODE 9110-12-P